SECURITIES AND EXCHANGE COMMISSION

[OMB Control No. 3235-0282]

Agency Information Collection Activities; Proposed Collection; Comment Request; Reinstatement Without Change: Rule 23c-2

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the collection of information summarized below. The Commission plans to submit this existing collection of information to the Office of Management and Budget (“OMB”) for extension and approval.

The title for the collection of information is “Rule 23c-2 (17 CFR 270.23c-2) under the Investment Company Act of 1940.” Rule 23c-2(a) (17 CFR 270.23c-2(a)) under the Act provides that a closed-end fund may call or redeem any securities it has issued in accordance with the charter, provided that in instances where less than all of the outstanding shares of a class or series are called or redeemed, the call or redemption is made by lot on a pro rata basis, or in a manner that does not discriminate against any shareholders. Further, rule 23c-2(b) (17 CFR 270.23c-2(b)) requires closed-end funds that propose to call or redeem any securities it has issued to file with the Commission notice of its intention at least 30 days prior to the date set for the call or redemption, provided that if such notice is required to by published in newspaper, notice is required within 10 days of publication. The notice is required to include (1) the title of the class of securities to be called or redeemed; (2) the date on which the securities are to be called or redeemed; (3) the applicable provisions of the governing instrument pursuant to which the securities are to be called or redeemed; and (4) if less than all the outstanding securities of a class or series are to be called or redeemed, the principal amount or number of shares and the basis upon which the securities to be call or redeemed are to be selected.

The Commission last submitted an information collection request (“ICR”) regarding this rule to OMB for approval under the Paperwork Reduction Act of 1995 (“PRA”) in November of 1982. The submission was subsequently approved in February of 1983. The Commission never sought an extension of the previously approved ICR upon expiration of the OMB approval in February of 1986. The reason the Commission never sought an extension is because the number of responses to this ICR recorded within the 1982 submission was only five, which is below the threshold of ten respondents outlined within the PRA for requiring OMB clearance. The Commission is now seeking to reinstate the rule 23c-2 ICR under control number 3235-0282.

Commission staff estimates that approximately 75 closed-end funds undertake an average of 110 proposed calls or redemptions of securities annually under rule 23c-2. Staff estimates further that, with respect to each proposed call or redemption, each fund spends 1.5 hours to comply with the rule's filing requirement with the Commission. Thus, Commission staff estimates the total annual respondent reporting burden is 165 hours. The total annual cost for all funds is estimated to be $81,180.

The requirements of this collection of information are mandatory. Responses will not be kept confidential. An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by November 21, 2025. There will be a second opportunity to comment on this SEC request following the Federal Register publishing a 30-Day Submission Notice.

Dated: September 17, 2025.
Sherry R. Haywood,
Assistant Secretary.

[FR Doc. 2025-18241 Filed 9-19-25; 8:45 am]

BILLING CODE 8011-01-P